DEPARTMENT OF DEFENSE

Department of the Army; Corps of Engineers

Intent To Prepare a Draft Supplemental Environmental Impact Statement for the Indian River Lagoon-North Feasibility Study Located in Portions of Volusia, Brevard, Indian River, St. Lucie, and Okeechobee Counties, FL

AGENCY: Department of the Army, Army Corps of Engineers, DOD.

ACTION: Notice of intent.

SUMMARY: The U.S. Army Corps of Engineers (Corps), Jacksonville District, intends to prepare a Draft Supplemental Environmental Impact Statement (DSEIS) for the Indian River Lagoon-North Feasibility Study. Encompassing the lagoon's northern watershed, the study area begins in Volusia County near the Ponce de Leon Inlet, extends southward through Brevard and Indian River counties, and ends near the Fort Pierce Inlet in St. Lucie County and northeast Okeechobee County, Florida. The objective of this study is to perform a comprehensive review of restoration alternatives for the lagoon.

FOR FURTHER INFORMATION CONTACT: Mr. Paul E. Stodola, U.S. Army Corps of Engineers, Planning Division, Environmental Branch, P.O. Box 4970, Jacksonville, FL, 32232-0019, by email Paul.E.Stodola@saj02.usace.army.mil or by telephone at 904-232-3271.

SUPPLEMENTARY INFORMATION: a. Proposed Action. The proposed Draft Supplemental Environmental Impact Statement (DSEIS) for the Indian River Lagoon-North Feasibility Study would supplement the Central and South Florida Programmatic Environmental Impact Statement completed in July 1999. A DSEIS for the Indian River Lagoon-South Feasibility Study, completed in October 2001, identified and assessed restoration alternatives for the lagoon's southern watershed. Authority and funds for the proposed action are provided by Section 528 of the Water Resources and Development Act of 1996 (Pub. L. 104-303). A reconnaissance report has been completed and resulted in a recommendation to continue the study into the feasibility phase.

The Indian River Lagoon-North estuarine ecosystem consists of three major water bodies: The Indian River, the Banana River, and the Mosquito Lagoon. This estuary is comprised of shallow interconnected linear lagoons interspersed with various types of habitats including seagrass, mangroves, and salt marsh. Tropical climatic influences converging with these habitat types have resulted in a unique and diverse assemblage of fauna and flora that occur nowhere else. Development and pollution have significantly degraded the water quality and reduced the biological productivity of the lagoon. The objective of this study is to identify and assess alternatives that would restore the lagoon's water quality and ecological conditions.

b. Alternatives. Specific proposed restoration alternatives include the following:

1. Goal I: Improve Ecological Values; Reduce excessive freshwater inflows and pollutant loadings to the Indian River Lagoon; Improve water quality in the Lagoon; Improve habitat for Lagoon biota, with emphasis on seagrass; Increase spatial extent and functional quality of submerged aquatic vegetation and watershed wetlands; Increase functional quality of native upland habitat; Maintain or improve diversity and abundance of native plant and animal species, including Federal, state, and local listed species.

2. Goal II: Improve Economic Values and Social Well Being; Maintain or improve water supply; Maintain or improve flood protection; Improve opportunities for tourism, recreation, and environmental education; Improve commercial and recreational fisheries and associated industries.

3. A No-Action Alternative is also being considered.

c. Scoping Process. The scoping process as outlined by the Council on Environmental Quality would be utilized to involve Federal, State, and local agencies, affected Indian tribes, and other interested persons and organizations. A scoping letter would be sent to the appropriate parties requesting comments and concerns regarding issues to consider during the study.

Significant issues to be analyzed in the DSEIS would include effects on Federally listed threatened and endangered species, Essential Fish Habitat, health and safety, water quality, aesthetics and recreation, fish and wildlife resources, cultural resources, socioeconomic resources, and other issues identified through scoping and public involvement.

The proposed action would be coordinated with the U.S. Fish and Wildlife Service and the National Marine Fisheries Service (NMFS) pursuant to Section 7 of the Endangered Species Act, with the NMFS concerning Essential Fish Habitat, and with the State Historic Preservation Officer.

The proposed action would also involve evaluation for compliance with guidelines pursuant to Section 404(b) of the Clean Water Act; application (to the State of Florida) for Water Quality Certification pursuant to Section 401 of the Clean Water Act; certification of state lands, easements, and rights of way; and determination of Coastal Zone Management Act consistency.

The Corps and the non-Federal sponsor, St. Johns River Water Management District, would provide extensive information and assistance on the resources to be impacted and alternatives.

d. Scoping Meetings. Public scoping meetings would be held. Exact dates, times, and locations would be published in local papers.

e. DSEIS Availability. The DSEIS would be available on or about May 2006.

Dated: November 12, 2002.
James C. Duck,
Chief, Planning Division.

[FR Doc. 02-29883 Filed 11-22-02; 8:45 am]

BILLING CODE 3710-AJ-M